DEPARTMENT OF TRANSPORTATION

Surface Transportation Board

[STB Ex Parte No. 552 (Sub-No. 6)]

Railroad Revenue Adequacy—2001 Determination

AGENCY: Surface Transportation Board.

ACTION: Notice of decision.

SUMMARY: On July 26, 2002, the Board served a decision announcing the 2001 revenue adequacy determinations for the Nation's Class I railroads. No carrier is found to be revenue adequate.

EFFECTIVE DATE: This decision is effective July 26, 2002.

FOR FURTHER INFORMATION CONTACT: Leonard J. Blistein, (202) 565-1529. [Assistance for the hearing impaired is available through the Federal Information Relay Service (FIRS) at 1-800-877-8339.]

SUPPLEMENTARY INFORMATION: The Board is required to make an annual determination of railroad revenue adequacy. A railroad is considered revenue adequate under 49 U.S.C. 10704(a) if it achieves a rate of return on net investment equal to at least the current cost of capital for the railroad industry for 2001, determined to be 10.2% in Railroad Cost of Capital—2001, STB Ex Parte No. 558 (Sub-No. 5) (STB served June 20, 2002). This revenue adequacy standard was applied to each Class I railroad, and no carrier was found to be revenue adequate for 2001.

Additional information is contained in the Board's formal decision. To purchase a copy of the full decision, write to, call, or pick up in person from: Da-To-Da Legal, Room 405, 1925 K Street, NW., Washington, DC 20423. Telephone: 202 293-7776. [Assistance for the hearing impaired is available through FIRS at 1-800-877-8339.] The decision is also available on the Board's Internet site at www.stb.dot.gov. Environmental and energy considerations

This action will not significantly affect either the quality of the human environment or the conservation of energy resources. Regulatory flexibility analysis

Pursuant to 5 U.S.C. 603(b), we conclude that our action in this proceeding will not have a significant economic impact on a substantial number of small entities. The purpose and effect of the action is merely to update the annual railroad industry revenue adequacy finding. No new reporting or other regulatory requirements are imposed, directly or indirectly, on small entities.

Decided: July 19, 2002.
By the Board, Chairman Morgan and Vice Chairman Burkes.
Vernon A. Williams,
Secretary.

[FR Doc. 02-18849 Filed 7-25-02; 8:45 am]

BILLING CODE 4915-00-P